DEPARTMENT OF LABOR

Employment and Training Administration

[TA-W-55,636]

Fleetguard Corporation, Subsidiary of Cummins Corporation, Cookeville, Tennessee; Notice of Revised Determination of Alternative Trade Adjustment Assistance on Reconsideration

On November 18, 2004, the Department of Labor issued a Notice of Affirmative Determination Regarding Application for Reconsideration for workers of the subject firm. The Notice will soon be published in the Federal Register.

The initial investigation determined that the subject worker group possesses skills that are easily transferable to another position in the local commuting area.

The reconsideration investigation has revealed that the workers do not possess skills that are easily transferable to another position in the local commuting area.

At least five percent of the workforce at the subject firm is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

“All workers at Fleetguard Corporation, Subsidiary of Cummins Corporation, Cookeville, Tennessee, who became totally or partially separated from employment on or after September 15, 2003 through October 22, 2006, are eligible to apply for adjustment assistance under Section 223 of the Trade Act of 1974, and are also eligible to apply for alternative trade adjustment assistance under Section 246 of the Trade Act of 1974.”

Signed in Washington, DC this 6th day of December 2004.
Elliott S. Kushner,
Certifying Officer, Division of Trade Adjustment Assistance.

[FR Doc. E4-3737 Filed 12-17-04; 8:45 am]

BILLING CODE 4510-30-P